INTERNATIONAL TRADE COMMISSION

[Inv. No. 337-TA-445]

In the Matter of Certain Plasma Display Panels and Products Containing Same; Notice of a Commission Determination Not To Review an Initial Determination Terminating the Investigation Based on Withdrawal of the Complaint, and a Schedule for the Filing of Written Submissions on a Recommended Determination

AGENCY: U.S. International Trade Commission.

ACTION: Notice.

SUMMARY: Notice is hereby given that the U.S. International Trade Commission has determined not to review the presiding administrative law judge's (“ALJ's”) initial determination (“ID”) granting a motion to terminate the above-captioned investigation based on withdrawal of the complaint, and has determined to issue a schedule for the filing of written submissions to address the former ALJ's May 8, 2001, recommended determination on sanctions.

FOR FURTHER INFORMATION CONTACT: Timothy P. Monaghan, Esq., Office of the General Counsel, U.S. International Trade Commission, telephone (202) 205-3152.

SUPPLEMENTARY INFORMATION: The Commission instituted this investigation on January 16, 2001, based on a complaint filed by the Board of Trustees of the University of Illinois, (“University”) of Urbana, Illinois, and Competitive Technologies, Inc. (“CTI”) of Fairfield, Connecticut. The respondents named in the investigation are Fujitsu Limited, Fujitsu General Limited, Fujitsu General America Corp., Fujitsu Microelectronics, Inc. and Fujitsu Hitachi Plasma Display Ltd. (collectively “Fujitsu”). The complaint alleged that Fujitsu violated section 337 of the Tariff Act of 1930 by importing into the United States, selling for importation, and/or selling within the United States after importation certain plasma display panels and products containing same by reason of infringement of certain claims of U.S. Letters Patents Nos. 4,866,349, and 5,081,400.

On May 8, 2001, the then ALJ issued a recommended determination (“RD”) on sanctions for breach of the administrative protective order in the investigation.

On June 26, 2001, complainants CTI and University filed a motion pursuant to rule 210.21(a) to terminate the investigation on the basis of withdrawal of the complaint. On July 9, 2001, Fujitsu filed a response and conditioned its support for the termination motion on the release to it of certain documents that complainants claim are privileged. The Commission investigative attorney supported complainants' motion to terminate the investigation.

On July 10, 2001, the presiding ALJ issued an ID (Order No. 26) granting complainants' motion to terminate the investigation. The ALJ found that there was insufficient cause to impose the condition requested by Fujitsu. No party filed a petition to review Order No. 26.

The Commission has determined to issue the following schedule for the parties to the investigation to file written submissions addressing the former ALJ's May 8, 2001, RD on sanctions. Main written submissions must be filed no later than close of business on August 24, 2001. Reply submissions must be filed no later than the close of business on August 31, 2001. No further submissions on this issue will be permitted unless otherwise ordered by the Commission.

This action is taken under the authority of section 337 of the Tariff Act of 1930, as amended, 19 U.S.C. 1337, and Commission rules 210.25 and 210.42, 19 CFR 210.25, 210.42. Copies of the all nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http:/www.usitc.gov). The public record for this investigation may be viewed on the Commission's electronic docket (EDIS-ON-LINE) at http://dockets.usitc.gov/eol/public.

By order of the Commission.
Issued: July 31, 2001.
Donna R. Koehnke,
Secretary.

[FR Doc. 01-19494 Filed 8-2-01; 8:45 am]

BILLING CODE 7020-02-P